DEPARTMENT OF ENERGY

Federal Energy Regulatory Commission

Notice of Intent To File Application for a New License

February 20, 2001.

Take notice that the following notice of intent has been filed with the Commission and is available for public inspection:

a. Type of Filing: Notice of Intent to File an Application for New License.

b. Project No: 620.

c. Date Filed: January 29, 2001.

d. Submitted By: NorQuest Seafood Inc.

e. Name of Project: Chignik.

f. Location: On Indian Creek, in Chignik, Alaska.

g. Filed Pursuant to: Section 15 of the Federal Power Act, 18 CFR 16.6.

h. Pursuant to Section 16.19 of the Commission's regulations, the licensee is required to make available the information described in Section 16.7 of the regulations. Such information is available from the licensee at NorQuest Seafoods, Inc. Main Office, 4225 23rd Ave. W., Seattle, Washington 98199. Contact: Ron Soule at 206-281-7022 or email rsoule@norquest.com.

i. FERC Contact: Vincent Jones 202 219-2710 vincent.jones@ferc.fed.us.

j. Expiration Date of Current License: October 4, 2005.

k. Project Description: Project consists of a single turbine nozzle driving a 60 kilowatt generator located in the cannery at the end of this wood stave and steel pipeline.

l. The licensee states its unequivocal intent to submit an application for a new license for Project No. 620. Pursuant to 18 CFR 16.9(b)(1) each application for a new license and any competing license applications must be filed with the Commission at least 24 months prior to the expiration of the existing license. All applications for license for this project must be filed by October 4, 2003.

A copy of the notice of intent is available for inspection and reproduction at the Commission's Public Reference Room, located at 888 First Street, NE, Room 2A, Washington, DC 20426, or by calling (202) 208-1371. The notice may be viewed on http://www.ferc.fed.us/online/rims.htm (call (202) 208-2222 for assistance). A copy is also available for inspection and reproduction at the address in item h above.

David P. Boergers,
Secretary.

[FR Doc. 01-4583 Filed 2-23-01; 8:45 am]

BILLING CODE 6717-01-M